DEPARTMENT OF VETERANS AFFAIRS

[OMB Control No. 2900-0379]

Agency Information Collection Activity Under OMB Review: Time Record (Work-Study Program)

AGENCY: Veterans Benefits Administration, Department of Veterans Affairs.

ACTION: Notice.

SUMMARY: In compliance with the Paperwork Reduction Act (PRA) of 1995 this notice announces that the Veterans Benefits Administration (VBA), Department of Veterans Affairs, will submit the collection of information abstracted below to the Office of Management and Budget (OMB) for review and comment. The PRA submission describes the nature of the information collection and its expected cost and burden; it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0379.

FOR FURTHER INFORMATION CONTACT: Danny S. Green, (202) 421-1354 or email Danny.Green2@va.gov. Please refer to “OMB Control No. 2900-0379” in any correspondence.

SUPPLEMENTARY INFORMATION: Authority: Title 38 United States Code § 3485, and Title 38 Code of Federal Regulations § 21.272 and § 21.4145.

Title: Time Record (Work-Study Program).

OMB Control Number: 2900-0379.

Type of Review: Revision of a currently approved collection.

Abstract: VA uses the information collected on these forms to ensure that the amount of benefits payable to the student who is pursuing work study is correct. Without this information, VA would not have a basis upon which to make payment.

An agency may not conduct or sponsor, and a person is not required to respond to a collection of information unless it displays a currently valid OMB control number. The Federal Register Notice with a 60-day comment period soliciting comments on this collection of information was published on May 05, 2020, at page 26783.

Affected Public: State, Local or Tribal Governments.

Estimated Annual Burden: 11,856 hours.

Estimated Average Burden per Respondent: 5 minutes.

Frequency of Response: Annual.

Actual Number of Respondents: 142,272.

By direction of the Secretary.
Danny S. Green,
VA PRA Clearance Officer, Office of Quality, Performance and Risk, Department of Veterans Affairs.

[FR Doc. 2020-15177 Filed 7-13-20; 8:45 am]

BILLING CODE 8320-01-P